LEGAL SERVICES CORPORATION

Sunshine Act Notice; Meeting of the Finance Committee of the Board of Directors

Date and Time: The Finance Committee of the Legal Services Corporation's Board of Directors will meet on September 21, 2009, starting at 10 a.m. Eastern Daylight Savings Time.

Public Observation: Members of the public who wish to observe the public portion of the meeting may do so in person at the offices of the Legal Services Corporation or by listening to it live by following the telephone call-in directions given below. Anyone who calls in should to keep his/her telephone muted to eliminate background noises. Comments from the public may from time to time be solicited by the Chairman of the Committee.

Call-in Directions for Open Session

• Call toll-free number: 1-(800) 247-9979;

• When prompted, enter the following Conference Identification number: 25515684;

• When connected to the call, please “MUTE” your telephone immediately.

Location: Legal Services Corporation, 3333 K Street, NW., Washington, DC 20007.

Status of Meeting: Open, except that a portion of the meeting of the Finance Committee may be closed to the public pursuant to a September 8, 2009 vote of the Board of Directors to consider and act on staff report on the classification of LSC consultants. A verbatim written transcript of the session will be made. The transcript of any portions of the closed session falling within the relevant provisions of the Government in the Sunshine Act, 5 U.S.C. 552b(c)(9)(B) & (10), and the corresponding provisions of the Legal Services Corporation's implementing regulation, 45 CFR 1622.5(g) & (h), will not be available for public inspection. A copy of the General Counsel's Certification that the closing is authorized by law will be available upon request.

Matters To Be Considered

Open Session

1. Approval of agenda.

2. Approval of minutes of the Committee's meeting of July 24, 2009.

3. Presentation on Management's Recommendation for LSC's FY 2011 Budget Request to Congress.

——Presentation by Charles Jeffress.

——Comments by John Constance.

——Comments by Jeffrey Schanz.

4. Public Comment.

——Robert Stein, on behalf of SCLAID.

——Don Saunders, on behalf of NLADA.

——Other.

5. Consider and act on recommending to the Board Resolution # 2009-008, A Resolution Adopting LSC's FY 2011 Budget Request to Congress.

6. Consider and act on whether to conduct a closed session of the Committee to address items listed below under Closed Session.

Closed Session

7. Consider and act on staff report on the classification of LSC consultants.

8. Consider and act on adjournment of meeting.

Contact Person for Information: Katherine Ward, Executive Assistant to the Vice President & General Counsel, at (202) 295-1500.

Special Needs: Upon request, meeting notices will be made available in alternate formats to accommodate visual and hearing impairments. Individuals who have a disability and need an accommodation to attend the meeting may notify Katherine Ward, at (202) 295-1500.

Dated: September 10, 2009.
Victor M. Fortuno,
Vice President & General Counsel.

[FR Doc. E9-22326 Filed 9-11-09; 4:15 pm]

BILLING CODE 7050-01-P